SECURITIES AND EXCHANGE COMMISSION

[File No. 500-1]

Drucker, Inc., DynaMotive Energy Systems Corp., and Gate to Wire Solutions, Inc., Order of Suspension of Trading

September 18, 2012.

It appears to the Securities and Exchange Commission that there is a lack of current and accurate information concerning the securities of Drucker, Inc. because it has not filed any periodic reports since the period ended December 31, 2006.

It appears to the Securities and Exchange Commission that there is a lack of current and accurate information concerning the securities of DynaMotive Energy Systems Corp. because it has not filed any periodic reports since the period ended December 31, 2008.

It appears to the Securities and Exchange Commission that there is a lack of current and accurate information concerning the securities of Gate to Wire Solutions, Inc. because it has not filed any periodic reports since the period ended November 30, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 18, 2012 through 11:59 p.m. EDT on October 1, 2012.

By the Commission.
Jill M. Peterson,
Assistant Secretary.

[FR Doc. 2012-23315 Filed 9-18-12; 4:15 pm]

BILLING CODE 8011-01-P